DEPARTMENT OF COMMERCE

International Trade Administration

[A-570-044]

1,1,1,2-Tetrafluoroethane (R-134a) From the People's Republic of China: Preliminary Results and Partial Rescission of Antidumping Duty Administrative Review; 2022-2023

AGENCY: Enforcement and Compliance, International Trade Administration, Department of Commerce.

SUMMARY: The U.S. Department of Commerce (Commerce) preliminarily determines that certain companies subject to the administrative review of the antidumping duty (AD) order on 1,1,1,2-Tetrafluoroethane (R-134a) from the People's Republic of China (China) remain part of the China-wide entity during the period of review (POR) April 1, 2022, through March 31, 2023. In addition, Commerce is rescinding this review in part with respect to certain companies that did not ship subject merchandise during the POR. Interested parties are invited to comment on these preliminary results of review.

DATES: Applicable January 25, 2024.

FOR FURTHER INFORMATION CONTACT: John Conniff, AD/CVD Operations, Office III, Enforcement and Compliance, International Trade Administration, U.S. Department of Commerce, 1401 Constitution Avenue NW, Washington, DC 20230; telephone: (202) 482-1009.

SUPPLEMENTARY INFORMATION:

Background

On April 19, 2017, Commerce published in the Federal Register the AD order on R-134a from China.¹ On April 4, 2023, Commerce published in the Federal Register a notice of opportunity to request an administrative review of the Order.² On April 28, 2023, American HFC Coalition and its individual members (the petitioner) submitted a timely request that Commerce conduct an administrative review.³ On June 12, 2023, Commerce published in the Federal Register a notice of initiation of administrative review with respect to imports of R-134a from China with respect to 28 companies/company groupings for the POR.⁴

¹ See 1,1,1,2-Tetrafluoroethane (R-134a) from the People's Republic of China: Antidumping Duty Order, 82 FR 18422 (April 19, 2017) (Order).

² See Antidumping or Countervailing Duty Order, Finding, or Suspended Investigation; Opportunity to Request Administrative Review and Join Annual Inquiry Service List, 88 FR 19916 (April 4, 2023).

³ See Petitioner's Letter, “Request for Administrative Review,” dated April 28, 2023.

⁴ See Initiation of Antidumping and Countervailing Duty Administrative Reviews, 88 FR 38021 (June 12, 2023).

On July 20, 2023, we placed on the record U.S. Customs and Border Protection (CBP) data for entries of R-134a from China, and invited interested parties to comment.⁵ On August 24, 2023, the petitioner submitted comments requesting that Commerce follow established practice and select the two largest exporters for review.⁶ On December 14, 2023, Commerce notified interested parties of its intent to rescind the review for companies with an existing separate rate that did not have any suspended entries during the POR.⁷ Pursuant to section 751(a)(3)(A) of the Tariff Act of 1930, as amended (the Act), Commerce extended the deadline for the preliminary results until January 31, 2024.⁸

⁵ See Memorandum, “Release of Customs and Border Protection Data,” dated July 20, 2023.

⁶ See Petitioner's Letter, “HFC Coalition's Comments on CBP Data and Respondent Selection,” dated August 24, 2023.

⁷ See Memorandum, “Notice of Intent to Rescind Review, In Part,” dated December 14, 2023 (Intent to Rescind Memorandum).

⁸ See Memorandum, “Extension of Deadline for the Preliminary Results of Antidumping Duty Administrative Review,” dated December 15, 2023.

Scope of the Order ⁹

⁹ See Order.

The merchandise covered by the Order is 1,1,1,2-Tetrafluoroethane, R-134a, or its chemical equivalent, regardless of form, type, or purity level. The chemical formula for 1,1,1,2- Tetrafluoroethane is CF3-CH2 F, and the Chemical Abstracts Service (CAS) registry number is CAS 811-97-2.¹⁰

¹⁰ 1,1,1,2-Tetrafluoroethane is sold under a number of trade names including Klea 134a and Zephex 134a (Mexichem Fluor); Genetron 134a (Honeywell); FreonTM 134a, Suva 134a, Dymel 134a, and Dymel P134a (Chemours); Solkane 134a (Solvay); and Forane 134a (Arkema). Generically, 1,1,1,2-Tetrafluoroethane has been sold as Fluorocarbon 134a, R-134a, HFC-134a, HF A-134a, Refrigerant 134a, and UN3159.

Merchandise subject to the Order is currently classified in the Harmonized Tariff Schedule of the United States (HTSUS) at subheading 2903.45.1000. Although the HTSUS subheading and CAS registry number are provided for convenience and customs purposes, the written description of the scope is dispositive.

Rescission of Administrative Review, in Part

Pursuant to 19 CFR 351.213(d)(3), it is Commerce's practice to rescind an administrative review of an antidumping duty order where it concludes that there were no suspended entries of subject merchandise during the POR.¹¹ Normally, upon completion of an administrative review, the suspended entries are liquidated at the antidumping duty assessment rate for the review period.¹² Therefore, for an administrative review to be conducted, there must be a reviewable, suspended entry that Commerce can instruct CBP to liquidate at the calculated antidumping duty assessment rate for the review period.¹³ As noted above, Commerce notified all interested parties of its intent to rescind the instant review regarding companies with an existing separate rate listed in Appendix I because there were no reviewable, suspended entries of subject merchandise from these companies during the POR and invited interested parties to comment.¹⁴ No interested party submitted comments to Commerce. Accordingly, in the absence of any suspended entries of subject merchandise from these companies during the POR, we are rescinding this administrative review for the companies listed in Appendix I in accordance with 19 CFR 351.213(d)(3).

¹¹ See, e.g., Certain Carbon and Alloy Steel Cut-to Length Plate from the Federal Republic of Germany: Recission of Antidumping Administrative Review; 2020-2021, 88 FR 4157 (January 24, 2023).

¹² See 19 CFR 351.212(b)(1).

¹³ See, e.g., Shanghai Sunbeauty Trading Co. v. United States, 380 F. Supp. 3d 1328, 1335-36 (CIT 2019), at 12 (referring to section 751(a) of the Act, the CIT held: “While the statute does not explicitly require that an entry be suspended as a prerequisite for establishing entitlement to a review, it does explicitly state the determined rate will be used as the liquidation rate for the reviewed entries. This result can only obtain if the liquidation of entries has been suspended. . . . ;” see also Certain Frozen Fish Fillets from the Socialist Republic of Vietnam: Final Results of Antidumping Duty Administrative Review and Final Determination of No Shipments; 2018-2019, 86 FR 36102, and accompanying Issues and Decision Memorandum at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

¹⁴ See Intent to Rescind Memorandum.

Preliminary Results of Review

Commerce considers all other companies for which a review was requested (see Appendix II), and which did not demonstrate separate rate eligibility, to be part of the China-wide entity. Commerce no longer considers the China-wide entity as an exporter conditionally subject to administrative review.¹⁵ Accordingly, the China-wide entity will not be under review unless Commerce specifically receives a request for, or self-initiates, a review of the entity. In this administrative review, no party requested a review of the China-wide entity. Moreover, we have not self-initiated a review of the China-wide entity. Because no review of the China-wide entity is being conducted, the China-wide entity's entries are not subject to the review, and the weighted-average dumping margin for the China-wide entity rate (i.e., 167.02 percent) is not subject to change.¹⁶

¹⁵ See Antidumping Proceedings: Announcement of Change in Department Practice for Respondent Selection in Antidumping Duty Proceedings and Conditional Review of the Nonmarket Economy Entity in NME Antidumping Duty Proceedings, 78 FR 65963, 65969-70 (November 4, 2013).

¹⁶ See Order, 82 FR at 18423.

Public Comment

Pursuant to 19 CFR 351.309(c), interested parties may submit case briefs to Commerce no later than 30 days after the date of publication of this notice. Rebuttal briefs, limited to issues raised in the case briefs, may be filed not later than five days after the date for filing case briefs.¹⁷ Interested parties who submit case briefs or rebuttal briefs in this proceeding must submit: (1) a table of contents listing each issue; and (2) a table of authorities.¹⁸

¹⁷ See 19 CFR 351.309(d).

¹⁸ See 19 351.309(c)(2) and (d)(2)

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁹ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²⁰

¹⁹ We use the term “issue” here to describe an argument that Commerce would normally address in a comment of the Issues and Decision Memorandum.

²⁰ See Administrative Protective Order, Service, and Other Procedures in Antidumping and Countervailing Duty Proceedings; Final Rule, 88 FR 67069 (September 29, 2023).

Pursuant to 19 CFR 351.310(c), interested parties who wish to request a hearing must submit a written request to the Assistant Secretary for Enforcement and Compliance, filed electronically via Enforcement and Compliance's Antidumping and CVD Centralized Electronic Service System (ACCESS). Requests should contain: (1) the party's name, address, and telephone number; (2) the number of participants; and (3) a list of issues to be discussed. Issues raised in the hearing will be limited to those raised in the respective case briefs. An electronically filed hearing request must be received successfully in its entirety by Commerce's electronic records system, ACCESS, by 5:00 p.m. Eastern Time within 30 days after the date of publication of this notice.

Final Results of Review

Unless extended, we intend to issue the final results of this administrative review, which will include the results of our analysis of all issues raised in the case and rebuttal briefs, within 120 days of publication of these preliminary results in the Federal Register.²¹

²¹ See section 751(a)(3)(A) of the Act; and 19 CFR 351.213(h).

Assessment

For the companies listed in Appendix I for which we are rescinding the review, Commerce will instruct CBP to assess antidumping duties on all appropriate entries. Antidumping duties shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register. If a timely summons is filed at the U.S. Court of International Trade, the assessment instructions will direct CBP not to liquidate relevant entries until the time for parties to file a request for a statutory injunction has expired (i.e., within 90 days of publication).

For the companies listed in Appendix II, upon issuance of the final results of this review, Commerce will determine, and CBP shall assess, antidumping duties on all appropriate entries of subject merchandise covered by this review.²² We intend to instruct CBP to liquidate entries containing subject merchandise exported by the companies under review that we determine in the final results to be part of the China-wide entity at the China-wide entity rate of 167.02 percent. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²² See 19 CFR 351.212(b)(1).

Notification Regarding Administrative Protective Order

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751(a)(1) and 777(i)(1) of the Act, and 19 CFR 351.213(d)(4).

Dated: January 12, 2024.
Abdelali Elouaradia,
Deputy Assistant Secretary for Enforcement and Compliance.

Appendix I

1. Jiangsu Bluestar Green Technology Co., Ltd

2. Jiangsu Sanmei Chemicals Co., Ltd.

3. T.T. International Co., Ltd.

4. Weitron International Refrigeration Equipment (Kunshan) Co. Ltd. (aka Weichang Refrigeration Equipment (Kunshan) Co., Ltd.)

5. Zhejiang Sanmei Chemical Industry Co. Ltd.

Appendix II

1. Bestcool Inc., Ltd.

2. Electrochemical Factory of Zhejiang Juhua Co., Ltd.

3. Fujian Qingliu Dongying Chemical Ind. Co., Ltd.

4. Hongkong Richmax Ltd.

5. Huantai Dongyue International Trade Co. Ltd.

6. ICOOL Chemical Co., Ltd.

7. Jinhua Binglong Chemical Technology Co., Ltd.

8. Jinhua Yonghe Fluorochemical Co., Ltd.

9. Ningbo FTZ ICOOL Prime International

10. Puremann, Inc.

11. Shandong Dongyue Chemical Co., Ltd.

12. Shandong Huaan New Material Co., Ltd.

13. Sinochem Environmental Protection Chemicals (Taicang) Co., Ltd.

14. Zhejiang Juhua Co., Ltd.

15. Zhejiang Morita New Materials Co., Ltd.

16. Zhejiang Organic Fluor-Chemistry Plant, Zhejiang Juhua Co., Ltd.

17. Zhejiang Quhua Fluor-Chemistry Co., Ltd.

18. Zhejiang Quhua Juxin Fluorochemical Industry Co., Ltd.

19. Zhejiang Quzhou Juxin Fluorine Chemical Co., Ltd.

20. Zhejiang Quzhou Lianzhou Refrigerants Co., Ltd.

21. Zhejiang Yonghe Refrigerant Co., Ltd.

22. Zhejiang Zhonglan Refrigeration Technology Co., Ltd.

23. Zibo Feiyuan Chemical Co., Ltd.

[FR Doc. 2024-01432 Filed 1-24-24; 8:45 am]

BILLING CODE 3510-DS-P